DEPARTMENT OF AGRICULTURE

Submission for OMB Review; Comment Request

August 16, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Virtual Incident Procurement (VIPR) Existing Vendor User Survey.

OMB Control Number: 0596-NEW.

Summary of Collection: The authorization to survey vendors for customer service improvements comes from Executive Order 12862 which seeks to “* * * ensure that the Federal Government provides the highest quality service possible to the American people.” The Virtual Incident Procurement (VIPR) is an acquisition system designed to solicit, award, and manage preseason incident agreements and contracts for equipment and services at the Forest Service (FS). Using an online electronic survey the FS will collect information from existing VIPR vendor users.

Need and Use of the Information: Opinions and comments from individual VIPR vendor users are needed to evaluate their experiences with the acquisition system, customer service support, and other supporting tools. The information will be collected and analyzed by the FS Acquisition Management Systems Branch. Information collected will be used to evaluate the system and to make decisions on program improvements, potential system functionality upgrades, improve overall customer service and other support tools. Results from the information collection may be shared with other FS divisions, with agencies outside of the FS, and with the public.

Description of Respondents: Business or other for-profit.

Number of Respondents: 3,000.

Frequency of Responses: Reporting: Annually.

Total Burden Hours: 1,000.

Charlene Parker,
Departmental Information Collection Clearance Officer.

[FR Doc. 2010-20628 Filed 8-19-10; 8:45 am]

BILLING CODE 3410-11-P